DEPARTMENT OF DEFENSE

Office of the Secretary

[Docket ID: DOD-2016-OS-0104]

Privacy Act of 1974; System of Records

AGENCY: Office of the Secretary of Defense, DoD.

ACTION: Notice to alter a System of Records.

SUMMARY: Pursuant to the Privacy Act of 1974 and Office of Management and Budget (OMB) Circular No. A-130, notice is hereby given that the Office of the Secretary of Defense proposes to alter a system of records, DAU 06, entitled “Defense Acquisition University Mailing Lists.” Data is used by DAU to provide a mailing list for the distribution of the Defense AT&L Magazine and Defense Acquisition Research Journal.

This update reflects considerable administrative changes that in sum warrant an alteration to the systems of records notice. The applicable DoD Routine Uses have been incorporated in the notice to provide clarity for the public. Additionally, the categories system name, system location, category of individuals and records, the authorities, purpose, storage, retrievability, safeguards, retention and disposal, system manager address, notification and record access procedures, and the record source categories.

DATES: Comments will be accepted on or before November 21, 2016. This proposed action will be effective the day following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or at the Defense Privacy, Civil Liberties and Transparency Division Web site at http://dpcld.defense.gov/.

The proposed system report, as required by 5 U.S.C. 552a(r) of the Privacy Act of 1974, as amended, was submitted on September 27, 2016, to the House Committee on Oversight and Government Reform, the Senate Committee on Governmental Affairs, and the Office of Management and Budget (OMB) pursuant to paragraph 4 of Appendix I to OMB Circular No. A-130, “Federal Agency Responsibilities for Maintaining Records About Individuals,” revised November 28, 2000 (December 12, 2000 65 FR 77677).

Dated: October 17, 2016.
Aaron Siegel,
Alternate OSD Federal Register Liaison Officer, Department of Defense.

DAU 06

System name:

Defense Acquisition University Mailing Lists (May 13, 2004, 69 FR 26557).

Changes:

* * * * *

System name:

Delete entry and replace with “Defense Acquisition University (DAU), Visual Arts and Press Records.”

System location:

Delete entry and replace with “Gray Graphics, 8607 Central Avenue, Capitol Heights, MD 20743-3604.

Paper records are located at Defense Acquisition University (DAU), Visual Arts and Press Department, Building 206, Fort Belvoir, VA 22060-5565.”

Categories of individuals covered by the system:

Delete entry and replace with “Program management course graduates, alumni association members, and other DoD affiliated individuals submitting a request to be added to the mailing list.”

Categories of records in the system:

Delete entry and replace with “Name, work and/or home mailing address, rank or grade, position title, work and/or personal email address, and service affiliation or organization.”

Authority for maintenance of the system:

Delete entry and replace with “10 U.S.C. 133, Under Secretary of Defense for Acquisition, Technology and Logistics; and DoD Instruction 5000.57, Defense Acquisition University.”

Purpose(s):

Delete entry and replace with “Data is used by DAU to provide a mailing list for the distribution of the Defense AT&L Magazine and Defense Acquisition Research Journal.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

Policies and practices for storing, retrieving, accessing, retaining, and disposing of records in the system:

Storage:

Delete entry and replace with “Paper records and electronic storage media.”

Retrievability:

Delete entry and replace with “Files are retrievable by full name, mailing address, and email address.”

Safeguards:

Delete entry and replace with “Files are stored in a controlled access area and locked during non-business hours. Only authorized personnel have access to files. Access to electronic records requires Common Access Card (CAC), password, and Personal Identification Number (PIN).”

Retention and disposal:

Delete entry and replace with “All records are destroyed after appropriate revision of mailing list or after 3 months, whichever is sooner.”

System manager(s) and address:

Delete entry and replace with “Director, DAU Visual Arts and Press Department, Defense Acquisition University, Fort Belvoir, VA 22060-5565.”

Notification procedure:

Delete entry and replace with “Individuals seeking to determine whether information about themselves is contained in this system should address written inquiries to the Director, DAU Visual Arts and Press Department, Defense Acquisition University, Building 206, Fort Belvoir, VA 22060-5565.

Signed, written requests should contain full name, current address, and telephone number (for possible quick response).

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.”

Record access procedures:

Delete entry and replace with “Individuals seeking access to information about themselves contained in this system should address written inquiries to the Office of the Secretary of Defense/Joint Staff Freedom of Information Act Requester Service Center, 1155 Defense Pentagon, Washington, DC 20301-1155.

Signed, written requests for information should contain full name of the individual, current address, and the name and number of this system of records notice.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.”

* * * * *

Record source categories:

Delete entry and replace with “Data is provided by the individual, employer, or staff and faculty of DAU.”

* * * * *

DAU 06

System name:

Defense Acquisition University (DAU), Visual Arts and Press Records.

System location:

Gray Graphics, 8607 Central Avenue, Capitol Heights, MD 20743-3604.

Paper records are located at Defense Acquisition University (DAU), Visual Arts and Press Department, Building 206, Fort Belvoir, VA 22060-5565.

Categories of individuals covered by the system:

Program management course graduates, alumni association members, and other DoD affiliated individuals submitting a request to be added to the mailing list.

Categories of records in the system:

Name, work and/or home mailing address, rank or grade, position title, work and/or personal email address, and service affiliation or organization.

Authority for maintenance of the system:

10 U.S.C. 133, Under Secretary of Defense for Acquisition, Technology and Logistics; and DoD Instruction 5000.57, Defense Acquisition University.

Purpose(s):

Data is used by DAU to provide a mailing list for the distribution of the Defense AT&L Magazine and Defense Acquisition Research Journal.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

Policies and practices for storing, retrieving, accessing, retaining, and disposing of records in the system:

Storage:

Paper records and electronic storage media.

Retrievability:

Files are retrievable by full name, mailing address, and email address.

Safeguards:

Files are stored in a controlled access area and locked during non-business hours. Only authorized personnel have access to files. Access to electronic records requires Common Access Card (CAC), password, and Personal Identification Number (PIN).

Retention and disposal:

All records are destroyed after appropriate revision of mailing list or after 3 months, whichever is sooner.

System manager(s) and address:

Director, DAU Visual Arts and Press Department, Defense Acquisition University, Fort Belvoir, VA 22060-5565.

Notification procedure:

Individuals seeking to determine whether information about themselves is contained in this system should address written inquiries to the Director, DAU Visual Arts and Press Department, Defense Acquisition University, Building 206, Fort Belvoir, VA 22060-5565.

Signed, written requests should contain full name, current address, and telephone number (for possible quick response).

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

Record access procedures:

Individuals seeking access to information about themselves contained in this system should address written inquiries to the Office of the Secretary of Defense/Joint Staff Freedom of Information Act Requester Service Center, 1155 Defense Pentagon, Washington, DC 20301-1155.

Signed, written requests for information should contain full name of the individual, current address, and the name and number of this system of records notice.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

Contesting record procedures:

The OSD rules for accessing records, for contesting contents, and appealing initial agency determinations are published in OSD Administrative Instruction 81; 32 CFR part 311; or may be obtained from the system manager.

Record source categories:

Data is provided by the individual, employer, or staff and faculty of DAU.

Exemptions claimed for the system:

None.

[FR Doc. 2016-25428 Filed 10-19-16; 8:45 am]

BILLING CODE 5001-06-P